DEPARTMENT OF THE INTERIOR

National Park Service

[2253-665]

Notice of Inventory Completion: University of Denver Department of Anthropology and Museum of Anthropology, Denver, CO

AGENCY: National Park Service, Interior.

ACTION: Notice.

SUMMARY: The University of Denver Department of Anthropology and Museum of Anthropology, Denver, CO, has completed an inventory of human remains, in consultation with the appropriate Indian tribes, and has determined that there is a cultural affiliation between the human remains and present-day Indian tribes. Representatives of any Indian tribe that believes itself to be culturally affiliated with the human remains may contact the University of Denver Department of Anthropology and Museum of Anthropology. Repatriation of the human remains to the Indian tribes stated below may occur if no additional claimants come forward.

DATES: Representatives of any Indian tribe that believes it has a cultural affiliation with the human remains should contact the University of Denver Department of Anthropology and Museum of Anthropology at the address below by May 21, 2012.

ADDRESSES: Anne Amati, University of Denver Department of Anthropology and Museum of Anthropology, 2000 E. Asbury Avenue, Sturm Hall 146, Denver, CO 80208-0910, telephone (303) 871-2687.

SUPPLEMENTARY INFORMATION: Notice is here given in accordance with the Native American Graves Protection and Repatriation Act (NAGPRA), 25 U.S.C. 3003, of the completion of an inventory of human remains in the possession of the University of Denver Department of Anthropology and Museum of Anthropology, Denver, CO (DUMA). The human remains were removed from an unknown location.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by DUMA professional staff in consultation with representatives of the Santa Rosa Indian Community of the Santa Rosa Rancheria, California. DUMA sent correspondence to all Federally recognized tribes in California inviting them to consult, including all tribes related to the Yokut people (the Picayune Rancheria of Chukchansi Indians of California; Santa Rosa Indian Community of the Santa Rosa Rancheria, California; Table Mountain Rancheria of California; and the Tule River Indian Tribe of the Tule River Reservation, California). Correspondence in support of the assessment and cultural affiliation was received from the Enterprise Rancheria of Maidu Indians of California; Karuk Tribe (formerly the Karuk Tribe of California); Paiute-Shoshone Indians of the Bishop Community of the Bishop Colony, California; and the Sherwood Valley Rancheria of Pomo Indians of California. DUMA staff responded to follow up questions from the Agua Caliente Band of Cahuilla Indians of the Aqua Caliente Indian Reservation, California, and the Round Valley Indian Tribes of the Round Valley Reservation, California.

History and Description of the Remains

At an unknown date, human remains (DU 6062) representing, at minimum, one individual were removed from an unknown location in California. The human remains came into the possession of DUMA at an unknown date. No known individuals were identified. No associated funerary objects are present. The remains were marked “Digger Indian, California Mound Graves.”

At an unknown date, human remains (DU 6179) representing, at minimum, one individual were removed from an unknown location in southern California. The human remains came into the possession of DUMA at an unknown date. No known individuals were identified. No associated funerary objects are present. The remains were marked “Digger Indian, So. California Mound Graves.”

During consultation, Santa Rosa Indian Community of the Santa Rosa Rancheria representatives provided geographical, archeological, and historical evidence to support cultural affiliation with the Yokut people. Santa Rosa Indian Community of the Santa Rosa Rancheria representatives provided maps and written descriptions identifying the expanse of Yokut aboriginal territory in California, from the summit of the inner or Mount Diablo Range of the Coast Mountains to the upper reaches of the Sierra Foothills, from the north of Cosumne River basin to Tejon Canyon on the east, and from Carquinez Strait to Paleta on the west. They also provided archeological documentation identifying “Indian Mound” burial as a cultural aspect of the aboriginal Yokut people and historical reference for the term “Digger Indian,” a slander that was applied to many California Indians, including the Yokut people.

Determinations Made by the University of Denver Department of Anthropology and Museum of Anthropology

Officials of the University of Denver Department of Anthropology and Museum of Anthropology have determined that:

• Pursuant to 25 U.S.C. 3001(9), the human remains described in this notice represent the physical remains of two individuals of Native American ancestry.

• Pursuant to 25 U.S.C. 3001(2), there is a relationship of shared group identity that can be reasonably traced between the Native American human remains and the Picayune Rancheria of Chukchansi Indians of California; Santa Rosa Indian Community of the Santa Rosa Rancheria, California; Table Mountain Rancheria of California; and the Tule River Indian Tribe of the Tule River Reservation, California.

Additional Requestors and Disposition

Representatives of any Indian tribe that believes itself to be culturally affiliated with the human remains should contact Anne Amati, University of Denver Department of Anthropology and Museum of Anthropology, 2000 E. Asbury Avenue, Sturm Hall 146, Denver, CO 80208-0910, telephone (303) 871-2687, before May 21, 2012. Repatriation of the human remains to the Picayune Rancheria of Chukchansi Indians of California; Santa Rosa Indian Community of the Santa Rosa Rancheria, California; Table Mountain Rancheria of California; and the Tule River Indian Tribe of the Tule River Reservation, California, may proceed after that date if no additional claimants come forward.

The University of Denver Department of Anthropology and Museum of Anthropology is responsible for notifying the Agua Caliente Band of Cahuilla Indians of the Aqua Caliente Indian Reservation, California; Enterprise Rancheria of Maidu Indians of California; Karuk Tribe (formerly the Karuk Tribe of California); Paiute-Shoshone Indians of the Bishop Community of the Bishop Colony, California; Picayune Rancheria of Chukchansi Indians of California; Round Valley Indian Tribes of the Round Valley Reservation, California; Santa Rosa Indian Community of the Santa Rosa Rancheria, California; Sherwood Valley Rancheria of Pomo Indians of California; Table Mountain Rancheria of California; and the Tule River Indian Tribe of the Tule River Reservation, California, that this notice has been published.

Dated: April 12, 2012.
David Tarler,
Acting Manager, National NAGPRA Program.

[FR Doc. 2012-9461 Filed 4-18-12; 8:45 am]

BILLING CODE 4312-50-P